DEPARTMENT OF HOUSING AND URBAN DEVELOPMENT

[Docket No. FR-5375-N-38]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v.Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Mr. Scott Whiteford, Army Corps of Engineers, Director of Real Estate, CEMP-CR, 441 G St., NW., Washington, DC 20314; (202) 761-5542; Coast Guard: Commandant, United States Coast Guard, Attn: Jennifer Stomber, 2100 Second St., SW., Stop 7901, Washington, DC 20593-0001; (202) 475-5609; GSA: Mr. Gordon Creed, Acting Deputy Assistant Commissioner, General Services Administration, Office of Property Disposal, 18th & F Streets, NW., Washington, DC 20405; (202) 501-0084; Interior: Mr. Michael Wright, Acquisition & Property Management, Department of the Interior, 1849 C Street, NW., Washington, DC 20240: (202) 208-5399; Navy: Mr. Albert Johnson, Director of Real Estate, Department of the Navy, Naval Facilities Engineering Command, Washington Navy Yard, 1330 Patterson Ave., SW., Suite 1000, Washington, DC 20374; (202) 685-9305; NASA: Mr. Frank Bellinger, Facilities Engineering Division, National Aeronautics & Space Administration, Washington, DC 20546; (202) 358-1124; (These are not toll-free numbers).

Dated: September 23, 2010.
Mark R. Johnston,
Deputy Assistant Secretary for Special Needs.

TITLE V, FEDERAL SURPLUS PROPERTY PROGRAM FEDERAL REGISTER REPORT FOR 10/01/2010

Suitable/Available Properties

Building

Maryland

Appraisers Store

Baltimore, MD 21202

Landholding Agency: GSA

Property Number: 54201030016

Status: Excess

GSA Number: 4-G-MD-0623

Comments: Redetermination: 169,801 sq. ft., most recent use—federal offices, listed in the Natl. Register of Historic Places, use restrictions

Michigan

CPT George S. Crabbe USARC

2901 Webber Street

Saginaw, MI

Landholding Agency: GSA

Property Number: 54201030018

Status: Excess

GSA Number: 1-D-MI-835

Comments: 3891 sq. ft., 3-bay garage maintenance building

West Virginia

Bldg. WIN-01-S-09

Winfield Locks & Dam

Redhouse, WV 25168

Landholding Agency: COE

Property Number: 31201030006

Status: Unutilized

Comments: 1872 sq. ft., most recent use—storage, off-site use only

Unsuitable Properties

Building

California

Bldg. PM42

Naval Base

Point Mugu, CA 93043

Landholding Agency: Navy

Property Number: 77201030032

Status: Unutilized

Reasons: Secured Area

Bldg. 922

Naval Weapons Station

Seal Beach, CA

Landholding Agency: Navy

Property Number: 77201030033

Status: Unutilized

Reasons: Within 2000 ft. of flammable or explosive material Secured Area

Bldgs. 152, 3410 Naval Base

San Diego, CA

Landholding Agency: Navy

Property Number: 77201030034

Status: Excess

Reasons: Secured Area

District of Columbia

Bldgs. 97, 106, 471

Naval Support Facility

Anacostia

Washington, DC 20373

Landholding Agency: Navy

Property Number: 77201030038

Status: Excess

Reasons: Secured Area, Extensive deterioration

Hawaii

Bldg. 237

NCTAMS Pacific

Wahiawa HI 96786

Landholding Agency: Navy

Property Number: 77201030035

Status: Excess

Reasons: Secured Area, Extensive deterioration

Kentucky

3 Bldgs.

Nolin River Lake Project

Bee Spring, KY

Landholding Agency: COE

Property Number: 31201030007

Status: Excess

Reasons: Floodway, Extensive deterioration

Bldg. DA-473

USGC Obion

Owensboro, KY 42303

Landholding Agency: Coast Guard

Property Number: 88201030003

Status: Unutilized

Reasons: Secured Area, Extensive deterioration

Maryland

Bldgs. 27501, 27509

Ft. McHenry Natl. Monument

Baltimore, MD 21230

Landholding Agency: Interior

Property Number: 61201030001

Status: Excess

Reasons: Extensive deterioration

Bldg. 2

Goddard Space Flight Center

Greenbelt, MD 20771

Landholding Agency: NASA

Property Number: 71201030001

Status: Excess

Reasons: Secured Area

Bldg. 536

Naval Air Station

Patuxent River, MD

Landholding Agency: Navy

Property Number: 77201030037

Status: Underutilized

Reasons: Secured Area

Massachusetts

Bldg. 6211

Tully Lake Project

Royalston, MA 01368

Landholding Agency: COE

Property Number: 31201030008

Status: Unutilized

Reasons: Extensive deterioration

Michigan

Alpena Federal Building

145 Water Street

Alpena, MI 49707

Landholding Agency: GSA

Property Number: 54201030017

Status: Excess

GSA Number: 1-G-MI-0836

Reasons: Within 2000 ft. of flammable or explosive material

Land

Hawaii

875 sq. ft.—land

Marine Corps Training Area

Bellows, HI

Landholding Agency: Navy

Property Number: 77201030036

Status: Underutilized

Reasons: Secured Area

[FR Doc. 2010-24345 Filed 9-30-10; 8:45 am]

BILLING CODE 4210-67-P